DEPARTMENT OF ENERGY

Federal Energy Regulatory Commission

Combined Notice of Filings #1

Take notice that the Commission received the following exempt wholesale generator filings:

Docket Numbers: EG22-28-000.

Applicants: Northern Wind Energy Redevelopment, LLC.

Description: Notice of Self-Certification of Exempt Wholesale Generator Status of Northern Wind Energy Redevelopment, LLC.

Filed Date: 12/16/21.

Accession Number: 20211216-5212.

Comment Date: 5 p.m. ET 1/6/22.

Docket Numbers: EG22-29-000.

Applicants: Red Barn Energy, LLC.

Description: Notice of Self-Certification of Exempt Wholesale Generator Status of Red Barn Energy, LLC.

Filed Date: 12/16/21.

Accession Number: 20211216-5224.

Comment Date: 5 p.m. ET 1/6/22.

Docket Numbers: EG22-30-000.

Applicants: Rock Aetna Power Partners, LLC.

Description: Notice of Self-Certification of Exempt Wholesale Generator Status of Rock Aetna Power Partners, LLC.

Filed Date: 12/16/21.

Accession Number: 20211216-5225.

Comment Date: 5 p.m. ET 1/6/22.

Docket Numbers: EG22-31-000.

Applicants: Arrow Canyon Solar, LLC.

Description: Notice of Self-Certification of Exempt Wholesale Generator Status of Arrow Canyon Solar, LLC.

Filed Date: 12/17/21.

Accession Number: 20211217-5235.

Comment Date: 5 p.m. ET 1/7/22.

Take notice that the Commission received the following electric rate filings:

Docket Numbers: ER17-1821-004.

Applicants: Panda Stonewall LLC.

Description: Refund Report: Potomac Energy Center, LLC submits tariff filing per 35.19a(b): Refund Report to be effective N/A.

Filed Date: 12/17/21.

Accession Number: 20211217-5107.

Comment Date: 5 p.m. ET 1/7/22.

Docket Numbers: ER20-1418-001.

Applicants: Pacific Gas and Electric Company.

Description: Compliance filing: FERC Order No. 864 TO Tariff Second Compliance Filing to be effective 1/27/2020.

Filed Date: 12/17/21.

Accession Number: 20211217-5000.

Comment Date: 5 p.m. ET 1/7/22.

Docket Numbers: ER22-226-001.

Applicants: Avista Corporation.

Description: Tariff Amendment: First Amendment to OATT revisions for EIM Entry, Att M to be effective 2/1/2022.

Filed Date: 12/17/21.

Accession Number: 20211217-5199.

Comment Date: 5 p.m. ET 1/7/22.

Docket Numbers: ER22-333-001.

Applicants: Southwest Power Pool, Inc.

Description: Tariff Amendment: NorthWestern (South Dakota) Amendment to Formula Rate Tariff filing to be effective 1/3/2022.

Filed Date: 12/17/21.

Accession Number: 20211217-5232.

Comment Date: 5 p.m. ET 1/7/22.

Docket Numbers: ER22-667-000.

Applicants: Mulligan 3 Wind LLC.

Description: Petiton for Limited Waiver of Mulligan 3 Wind LLC.

Filed Date: 12/15/21.

Accession Number: 20211215-5308.

Comment Date: 5 p.m. ET 12/27/21.

Docket Numbers: ER22-673-000.

Applicants: San Diego Gas & Electric Company.

Description: § 205(d) Rate Filing: 2022 TACBAA Update to be effective 1/1/2022.

Filed Date: 12/17/21.

Accession Number: 20211217-5001.

Comment Date: 5 p.m. ET 1/7/22.

Docket Numbers: ER22-674-000.

Applicants: San Diego Gas & Electric Company.

Description: § 205(d) Rate Filing: 2022 RS Filing to be effective 1/1/2022.

Filed Date: 12/17/21.

Accession Number: 20211217-5002.

Comment Date: 5 p.m. ET 1/7/22.

Docket Numbers: ER22-675-000.

Applicants: New York State Reliability Counsel, L.L.C.

Description: New York State Reliability Council submits Revised Install Capacity Requirement for the New York Control Area for the period Beginning May 1, 2021 ending April 30, 2022.

Filed Date: 12/16/21.

Accession Number: 20211216-5247.

Comment Date: 5 p.m. ET 1/6/22.

Docket Numbers: ER22-676-000.

Applicants: PJM Interconnection, L.L.C.

Description: § 205(d) Rate Filing: Original SA No. 6261, Dynamic Schedule Agreement between PJM and NIPSCO to be effective 12/1/2021.

Filed Date: 12/17/21.

Accession Number: 20211217-5060.

Comment Date: 5 p.m. ET 1/7/22.

Docket Numbers: ER22-677-000.

Applicants: Tri-State Generation and Transmission Association, Inc.

Description: § 205(d) Rate Filing: Initial Filing of Rate Schedule No. 338 to be effective 11/17/2021.

Filed Date: 12/17/21.

Accession Number: 20211217-5170.

Comment Date: 5 p.m. ET 1/7/22.

Docket Numbers: ER22-678-000.

Applicants: Tri-State Generation and Transmission Association, Inc.

Description: Tariff Amendment: Notice of Cancellation of Rate Schedule No. 81 to be effective 11/17/2021.

Filed Date: 12/17/21.

Accession Number: 20211217-5171.

Comment Date: 5 p.m. ET 1/7/22.

Docket Numbers: ER22-680-000.

Applicants: Southern California Edison Company.

Description: § 205(d) Rate Filing: WDAT Enhancements 2021 to be effective 2/16/2022.

Filed Date: 12/17/21.

Accession Number: 20211217-5222.

Comment Date: 5 p.m. ET 1/7/22.

Docket Numbers: ER22-681-000.

Applicants: Exelon Generation Company, LLC.

Description: § 205(d) Rate Filing: Filing of Letter Agreement to be effective 1/25/2022.

Filed Date: 12/17/21.

Accession Number: 20211217-5292.

Comment Date: 5 p.m. ET 1/7/22.

Docket Numbers: ER22-682-000.

Applicants: Duke Energy Progress, LLC.

Description: § 205(d) Rate Filing: DEP-NCEMPA—Revisions to Rate Schedule No. 200 to be effective 3/1/2022.

Filed Date: 12/17/21.

Accession Number: 20211217-5303.

Comment Date: 5 p.m. ET 1/7/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2021.
Kimberly D. Bose,
Secretary.

[FR Doc. 2021-27871 Filed 12-22-21; 8:45 am]

BILLING CODE 6717-01-P